DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Manufacturing Extension Partnership Management Information Reporting.

OMB Control Number: 0693-0032.

Form Number(s): None.

Type of Request: Revision and extension of an approved information collection.

Number of Respondents: 51.

Average Hours per Response: 20 Hours for Quarterly Review, 4 Hours for Semi-Annual Review, 30 hours for the Annual Review; 80 hours for Panel Review.

Burden Hours: 5,508 hours for quarterly, semi-annual and annual Review; and 1,360 hours for Panel Review.

Needs and Uses: NIST MEP offers technical and business solutions to small- and medium-sized manufacturers to improve their productivity, improve profitability, and enhance their economic competitiveness. This is a major program which links all 50 states and Puerto Rico and the manufacturers through more than 400 affiliated MEP Centers and Field Offices. NIST MEP has many legislative and contractual requirements for collecting data and information from the MEP Centers. This information is used for the following purposes: (1) Program Accountability, (2) Reports to Stakeholders, (3) Continuous Improvement; and (4) Identification of Distinctive Practices.

Affected Public: Business or other for-profit organizations.

Frequency: Quarterly, Semi-Annual, and Annual Reporting.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-18513 Filed 8-24-18; 8:45 am]

BILLING CODE 3510-13-P